DEPARTMENT OF ENERGY

Energy Sector Framework Implementation Guidance

AGENCY: Department of Energy.

ACTION: Notice of Stakeholder Participation.

SUMMARY: The Department of Energy (DOE) invites public participation in DOE's efforts to develop a guidance document entitled: Energy Sector Framework Implementation Guidance.

FOR FURTHER INFORMATION CONTACT: Requests for participation in DOE's Guidance development efforts and additional information should be directed to Cyber.Framework@hq.doe.gov.

SUPPLEMENTARY INFORMATION: Since the release of the Cybersecurity Framework by the National Institute of Standards and Technology (NIST) on February 12, 2014, DOE has engaged both private and public sector stakeholders for the development of the Energy Sector Framework Implementation Guidance (Guidance). The DOE is currently collaborating with private sector stakeholders through the Electricity Subsector Coordinating Council (ESCC) and the Oil & Natural Gas Subsector Coordinating Council (ONG SCC) forums. The DOE is also coordinating with other Sector Specific Agency (SSA) representatives and interested government stakeholders for the development of the Guidance.

The DOE invites energy sector stakeholder participation in bi-weekly conference calls being held jointly by the ESCC and ONG SCC forums. These forums also provide periodic opportunities for participants to comment on the incremental updates to the Draft Framework Implementation Guidance document. The document is being designed to help energy sector stakeholders develop or align existing cybersecurity risk management programs with the Cybersecurity Framework. The document will also take into consideration energy sector organizations that may have business activities across multiple critical infrastructure sectors, e.g., Dams, Transportation, Chemicals, etc. requiring a harmonized implementation approach with these other sectors.

Authority: Section 8(b) of the Executive Order 13636, “Improving Critical Infrastructure Cybersecurity”

Issued at Washington, DC, on June 16, 2014.
Patricia A. Hoffman,
Assistant Secretary, Electricity Delivery and Energy Reliability.

[FR Doc. 2014-14453 Filed 6-19-14; 8:45 am]

BILLING CODE 6450-01-P